DEPARTMENT OF COMMERCE

International Trade Administration

[A-841-804]

Notice of Final Determination of Sales at Less Than Fair Value: Steel Concrete Reinforcing Bars from Moldova

AGENCY: Import Administration, International Trade Administration, Department of Commerce.

EFFECTIVE DATE: June 22, 2001.

FOR FURTHER INFORMATION CONTACT: Nithya Nagarajan or Michele Mire at (202) 482-5253 or (202) 482-4711, respectively, AD/CVD Enforcement, Office 4, Group II, Import Administration, International Trade Administration, U.S. Department of Commerce, 14th Street and Constitution Avenue, NW., Washington, DC 20230.

SUPPLEMENTARY INFORMATION:

The Applicable Statute and Regulations

Unless otherwise indicated, all citations to the Tariff Act of 1930, as amended (the Act), are references to the provisions effective January 1, 1995, the effective date of the amendments made to the Act by the Uruguay Round Agreements Act (URAA). In addition, unless otherwise indicated, all citations to Department of Commerce (the Department) regulations are to 19 CFR part 351 (April 2000).

Final Determination

We determine that steel concrete reinforcing bar (rebar) from Moldova is being sold, or is likely to be sold, in the United States at less than fair value (LTFV), as provided in section 735 of the Act. The estimated margin of sales at LTFV is shown in the Final Determination of Investigation section of this notice.

Case History

On January 30, 2001, the Department published the preliminary determination of the antidumping investigation of rebar from Moldova. See Notice of Preliminary Determination of Sales at Less Than Fair Value: Steel Concrete Reinforcing Bars from Moldova, 66 FR 8333 (January 30, 2001) (Preliminary Determination). We conducted verification of the questionnaire responses of the respondent, JV CJSC Moldova Steel Works (MSW), during the week of March 18, 2001. We gave interested parties an opportunity to comment on our Preliminary Determination and our findings at verification. On April 26, 2001, MSW and the petitioner, the Rebar Trade Action Coalition ¹, submitted case briefs; and on May 1, 2001, both parties submitted rebuttal briefs. The Department received no requests for a public hearing.

¹ The petitioner in this investigation is the Rebar Trade Action Coalition (RTAC), and its individual members, AmeriSteel, Auburn Steel Co., Inc., Birmingham Steel Corp., Border Steel, Inc., Marion Steel Company, Riverview Steel, and Nucor Steel and CMC Steel Group.

Section 734(m) of the Act states that in the case of regional industry investigations, the administering authority shall offer exporters the opportunity to enter into suspension agreements. Proposed and finalized agreements in these cases must comport with the requirements set forth under section 734 of the Act for the suspension of antidumping duty investigations. The exporter participating in the instant investigation was aware of its opportunity to propose a suspension agreement. However, the Department did not accept a suspension agreement in this proceeding. See Memorandum from Holly A. Kuga to The File, dated March 30, 2001.

The Department has conducted this investigation in accordance with section 731 of the Act.

Scope of Investigation

For purposes of this investigation, the product covered is all steel concrete reinforcing bars (rebar) sold in straight lengths, currently classifiable in the Harmonized Tariff Schedule of the United States (HTSUS) under item number 7214.20.00 or any other tariff item number. Specifically excluded are plain rounds (i.e., non-deformed or smooth bars) and rebar that has been further processed through bending or coating. HTSUS subheadings are provided for convenience and Customs purposes only. The written description of the scope of this proceeding is dispositive.

Period of Investigation

The period of investigation (POI) is October 1, 1999, through March 31, 2000. This period corresponds to the two most recent fiscal quarters prior to the month of the filing of the petition (i.e., June 2000).

Analysis of Comments Received

All issues raised in the case and rebuttal briefs by parties to this proceeding and to which we have responded are listed in the Appendix to this notice and addressed in the “Issues and Decision Memorandum” (Decision Memorandum), dated June 14, 2001, which is hereby adopted by this notice. Parties can find a complete discussion of the issues raised in this investigation and the corresponding recommendations in this public memorandum which is on file in the Central Records Unit, room B-099 (B-099) of the main Department building. In addition, a complete version of the Decision Memorandum can be accessed directly on the Web at http://ia.ita.doc.gov. The paper copy and electronic version of the Decision Memorandum are identical in content.

Changes Since the Preliminary Determination

Based on our findings at verification, and analysis of comments received, we have made adjustments to the preliminary determination calculation methodologies in calculating the final dumping margin in this proceeding. While we continued to use India as the surrogate country, we made the following changes: (1) We valued oxygen and nitrogen based upon MSW's reported factors of production, which were omitted inadvertently from the preliminary determination; (2) we valued lime and argon using United Nations (UN) Commodity Trade Statistics for 1998; (3) we corrected the inflator for brokerage and handling expenses; (4) we corrected clerical errors in the calculations of surrogate financial ratios; and, (5) we based the date of sale on the date of beginning of production rather than the date of the commercial sales invoice. These adjustments are discussed in the Decision Memorandum.

Verification

As provided in section 782(i) of the Act, we verified the information submitted by the respondent for use in our final determination. We used standard verification procedures including examination of relevant accounting and production records, and original source documents provided by the respondent.

Critical Circumstances

In a letter filed on August 22, 2000, the petitioners alleged that there is a reasonable basis to believe or suspect that critical circumstances exist with respect to imports of rebar from Moldova. On November 27, 2000, the Department published in the Federal Register its preliminary determination that critical circumstances exist for imports of rebar from Moldova.

See Preliminary Determinations of Critical Circumstances: Steel Concrete Reinforcing Bars From Ukraine and Moldova, 65 FR 70696 (November 27, 2000).

Since the preliminary determination, we received MSW's shipment data and, based upon these data, we find that critical circumstances do not exist for imports of rebar from Moldova. This determination is discussed in detail in the Decision Memorandum and in the Memorandum from Holly Kuga to Bernard T. Carreau, “Antidumping Duty Investigations of Steel Concrete Reinforcing Bar from Moldova—Final Negative Determination of Critical Circumstances,” dated June 14, 2001.

Final Determination of Investigation

We determine that the following weighted-average percentage margin exists for the period October 1, 1999 through March 31, 2000:

Manufacturer/exporter | Margin (percent)
Moldova-Wide Rate | 232.86

The Moldova-wide rate applies to all entries of the subject merchandise from Moldova.

Continuation of Suspension of Liquidation

Pursuant to section 735(c)(1)(B) of the Act, we are instructing the U.S. Customs Service (Customs) to continue to suspend liquidation of all entries of rebar from Moldova that are entered, or withdrawn from warehouse, for consumption on or after January 30, 2001 (the date of publication of the Preliminary Determination in the Federal Register). Customs shall continue to require a cash deposit or the posting of a bond equal to the estimated amount by which the normal value exceeds the U.S. price as shown above. The suspension of liquidation instructions will remain in effect until further notice.

In addition, since we have determined that critical circumstances do not exist for imports of rebar from Moldova, we are also instructing Customs to terminate the suspension of liquidation of, and refund all cash deposits and release all bonds collected on, entries of rebar from Moldova entered, or withdrawn from warehouse, for consumption from November 1, 2000 (90 days prior to the publication of the Preliminary Determination in the Federal Register) to January 29, 2001.

ITC Notification

In accordance with section 735(d) of the Act, we have notified the International Trade Commission (ITC) of our determination. As our final determination is affirmative, the ITC will determine, within 45 days, whether these imports are causing material injury, or threat of material injury, to an industry in the United States. If the ITC determines that material injury, or threat of injury does not exist, the proceeding will be terminated and all securities posted will be refunded or canceled. If the ITC determines that such injury does exist, the Department will issue an antidumping order directing Customs officials to assess antidumping duties on all imports of the subject merchandise entered or withdrawn from warehouse for consumption on or after the effective date of the suspension of liquidation.

This determination is issued and published in accordance with sections 735(d) and 777(i)(1) of the Act.

Dated: June 14, 2001.
Faryar Shirzad,
Assistant Secretary for Import Administration.

Appendix—Issues in Decision Memorandum

1: Whether India is a Significant Producer of Comparable Merchandise

2: Quality of Surrogate Values for India

3: Selection of Surrogate to Value Selling, General, and Administrative (SG&A) Expenses and Profit

4: Market-Oriented Industry (MOI)

5: Separate Rates

6: Date of Sale

7: Sales Database Errors

8: Adjustments to Factors of Production (FOP)

9: Calculation of Financial Ratios

[FR Doc. 01-15741 Filed 6-21-01; 8:45 am]

BILLING CODE 3510-DS-P